FEDERAL RESERVE SYSTEM

Change in Bank Control Notices; Acquisitions of Shares of a Bank or Bank Holding Company

The notificants listed below have applied under the Change in Bank Control Act (“Act”) (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than February 27, 2019.

A. Federal Reserve Bank of Chicago (Colette A. Fried, Assistant Vice President) 230 South LaSalle Street, Chicago, Illinois 60690-1414:

1. Richard Molepske, as trustee of Richard S. Molepske Trust, Belleair, Florida, together with Michael B. Molepske and Amy H. Molepske, as trustees of the Michael B. Molepske and Amy H. Molepske Trust and Michael B. Molepske, as trustee of the Nicholas JA Molespke Gift Trust, all of Manitowoc, Wisconsin; Kim Burke Molepske of Belleair, Florida: Kay F. Schroeder of Manitowoc, Wisconsin; Mark R. Molespke, as trustee of the Mark R. Molespke Trust, Chicago, Illinois; Amy E. Molepske, as trustee of the Amy E. Molepske Trust, Chicago, Illinois; Scott J. and Sarah J. Molepske, as trustee of the Scott J. and Sarah J. Molepske trust, Cedarburg, Wisconsin, as a group acting in concert; to acquire voting shares of Bank First National Corporation and thereby indirectly acquire Bank First National Association, both of Manitowoc, Wisconsin.

B. Federal Reserve Bank of Minneapolis (Mark A. Rauzi, Vice President), 90 Hennepin Avenue, Minneapolis, Minnesota 55480-0291:

1. Mark A. Manion; the 2016 Mark A. Manion and Shelly M Manion Joint Revocable Trust—Bank Stock (and its trustees Mark A. Manion and Shelly M. Manion); John Manion; Mary Jon Manion; and Gerald J. Manion; all of Superior, Wisconsin; to retain voting shares of NATCOM Bancshares, Inc., Superior, Wisconsin (NATCOM), and thereby indirectly retain shares of National Bank of Commerce, Superior, Wisconsin, and Republic Bancshares, Inc. Duluth, Minnesota, and it subsidiary bank, Republic Bank, Duluth, Minnesota.

C. Federal Reserve Bank of Kansas City (Dennis Denney, Assistant Vice President) 1 Memorial Drive, Kansas City, Missouri 64198-0001:

1. Carroll D. Esry, Sarasota, Florida, The Nancy Marie Esry Irrevocable Trust, Independence, Missouri, The William C. Esry Family Trust and William C. Esry, Independence, Missouri, individually and as trustee, The David Reich Esry Family Trust and David R. Esry, Lee's Summit, Missouri, individually, as custodian, and as trustee, Marcie Esry Johnson, Sarasota, Florida, The Carolyn Marcile Weir Irrevocable Trust, Independence, Missouri, Weir Farm LLC, Independence, Missouri, Robert K. Weir, Independence, Missouri, William N. Weir, Blue Springs, Missouri, Susan Weir Carter, Bay Village, Ohio, and Geoffrey D. Carter, Bay Village, Ohio; to become members of the Reich Family Group, and thereby retain shares of Blue Ridge Bancshares and its subsidiary, Bank and Trust Co., both of Independence, Missouri.

Board of Governors of the Federal Reserve System, February 6, 2019.
Yao-Chin Chao,
Assistant Secretary of the Board.

[FR Doc. 2019-01842 Filed 2-8-19; 8:45 am]

BILLING CODE 6210-01-P